DEPARTMENT OF STATE

[Public Notice 6311]

Determination Related to North Korea

Pursuant to the authority vested in me by the laws of the United States, including the Supplemental Appropriations Act, 2008 (Pub. L. 110-252), Chapter 4 of the Report on Six-Party Commitments, I hereby determine that North Korea continues to fulfill its commitments under the February 13, 2007, and October 3, 2007, Six-Party agreements, and that North Korea continues to make progress toward full implementation of the September 2005 Joint Statement.

This Determination shall be published in the Federal Register and copies shall be provided to the appropriate committees of the Congress along with the related report on North Korea's activities.

Dated: July 7, 2008.
Condoleezza Rice,
Secretary of State, Department of State.

[FR Doc. E8-18115 Filed 8-5-08; 8:45 am]

BILLING CODE 4710-30-P